DEPARTMENT OF AGRICULTURE

Submission for OMB Review; Comment Request

August 13, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: Agriculture Wood Apparel Manufacturers Trust Fund.

OMB Control Number: 0551-0045.

Summary of Collection: Section 12315 of the Agricultural Act of 2014 (P.L. 113-79) authorizes distribution out of the Agriculture Wood Apparel Manufacturers Trust Fund (“Agriculture Wool Trust Fund”) in each of calendar years 2014 through 2019, payable to qualifying claimants. Eligible claimants are directed to submit a notarized affidavit, following the statutory procedures specified Section 12314 (c) or (d) of the Act.

Need and Use of the Information: The Foreign Agricultural Service will use the information provided in the affidavits to certify the claimants' eligibility and to authorize payment from the Agriculture Wood Trust Fund.

Description of Respondents: Business or other-for-profit.

Number of Respondents: 55.

Frequency of Responses: Record keeping, Reporting: Annually.

Total Burden Hours: 165.

Ruth Brown,
Departmental Information Collection Clearance Officer.

[FR Doc. 2015-20432 Filed 8-19-15; 8:45 am]

BILLING CODE 3410-10-P